DEPARTMENT OF LABOR

Employment and Training Administration

[TA-W-65,392]

Smead Manufacturing Company, Springfield, OH; Notice of Termination of Investigation

In accordance with Section 221 of the Trade Act of 1974, as amended, an investigation was initiated on February 25, 2009 in response to a worker petition filed on behalf of workers of Smead Manufacturing Company, Logan, Ohio.

The petitioners have requested that the petition be withdrawn. Consequently, the investigation has been terminated.

Signed in Washington, DC, this 23rd day of April 2009.
Richard Church,
Certifying Officer, Division of Trade Adjustment Assistance.

[FR Doc. E9-11854 Filed 5-20-09; 8:45 am]

BILLING CODE 4510-FN-P